DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Deep Seabed Mining Regulations for Exploration Licenses.

Form Number(s): None.

OMB Approval Number: 0648-0145.

Type of Request: Regular submission.

Burden Hours: 40.

Number of Respondents: 2.

Average Hours Per Response: 20 hours.

Needs and Uses: The Deep Seabed Hard Mineral Resources Act requires applicants for an exploration license to submit information for NOAA to make a determination as to the applicants' eligibility to meet the provisions of the legislation. The information will be used to determine the financial, environmental and technological eligibility of the applicant to meet the requirements of the Act to conduct exploration activities. Licensees are required to submit annual reports.

Affected Public: Business or other for-profit organizations.

Frequency: Annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 20, 2005.
Gwellnar Banks,
Management Analyst, Office of the Chief Information Officer.

[FR Doc. 05-10470 Filed 5-25-05; 8:45 am]

BILLING CODE 3510-22-P